DEPARTMENT OF THE INTERIOR

Fish and Wildlife Service

Availability of the Report of Injury Assessment and Injury Determination: Coeur d'Alene Basin Natural Resource Damage Assessment

AGENCY: Fish and Wildlife Service, Interior.

ACTION: Notice of Availability.

SUMMARY: The U.S. Department of the Interior (DOI), U.S. Department of Agriculture, and the Coeur d'Alene Tribe (collectively, the Trustees) have undertaken a natural resource damage assessment (NRDA) to assess injuries resulting from releases of hazardous substances from mining and mineral processing operations in the Coeur d'Alene River basin, Idaho. Section 107 of the Comprehensive Environmental Response, Compensation and Liability Act (CERCLA) [42 U.S.C. 9607], section 311 of the Federal Water Pollution Control Act [33 U.S.C. 1321], and the National Oil and Hazardous Substances Pollution Contingency Plan [40 CFR part 300] provide authority to the conduct the NRDA.

The Trustees evaluated injuries to natural resources in the Coeur d'Alene River basin resulting from releases of mining-related hazardous substances and summarized their findings in the Report of Injury Assessment and Injury Determination: Coeur d'Alene Basin Natural Resource Damage Assessment (Report). Trustees used the Coeur d'Alene Basin Natural Resource Damage Assessment Plan, Injury Determination—Phase I, released in October 1993, and the Coeur d'Alene Basin Natural Resource Damage Assessment Plan, Phase II—Injury Quantification/Damage Determination, released in June 1996, guide the NRDA process.

Natural resources of the Coeur d'Alene River basin that were assessed for injury include: surface water; groundwater; bed, bank, and shoreline sediments; riparian and floodplain soils; aquatic biota, including both fish and aquatic invertebrates; wildlife, including birds, mammals, reptiles, amphibians; and vegetation. The areas assessed for natural resource injuries includes the South Fork Coeur d'Alene River basin, tributary drainages to the South Fork Coeur d'Alene River in which mining and milling occurred, the mainstem Coeur d'Alene River and associated lateral lakes and wetlands, and Coeur d'Alene Lake from the area near Conkling Point to the Spokane River.

The Report sets forth the data and analysis of information obtained by the Trustees during the Phase I and II injury determination studies combined with a comprehensive review and analysis of previously existing information concerning the natural resources in the Coeur d'Alene Basin. Authorized Trustee representatives adopted the Report and its findings in September 2000 and are now making it available for use by other agencies and the public.

FOR FURTHER INFORMATION CONTACT: The Trustee contact for the Department of the Interior is Mr. Bob Foley, U.S. Fish and Wildlife Service, 911 NE 11th Avenue, Portland, Oregon 97232-4181, (503) 231-6223. The Trustee contact for the Coeur d'Alene Tribe is Mr. Phillip Cernera, Coeur d'Alene Tribe NRDA Office, 424 Sherman Avenue, Suite 306, Coeur d'Alene ID 83814, (208) 667-4119.

SUPPLEMENTARY INFORMATION:

Document Availability

You may view this document at the Administrative Record repository at the Coeur d'Alene Tribe NRDA Office, 424 Sherman Avenue, Suite 306, Coeur d'Alene ID. You may obtain copies of these documents by contacting Mr. Michael Faber at the Coeur d'Alene Tribe NRDA Office, 424 Sherman Avenue, Suite 306, Coeur d'Alene ID 83814 or by calling (208) 667-4119.

Dated: September 21, 2000.
Anne Badgley,
Regional Director, Fish and Wildlife Service, Portland, Oregon.

[FR Doc. 00-24980 Filed 9-28-00; 8:45 am]

BILLING CODE 4310-55-P